MORRIS K. UDALL AND STEWART L. UDALL FOUNDATION

Sunshine Act Meetings

TIME AND DATE: 12:00 p.m. to 5:00 p.m., Monday, June 10, 2013, and 9:00 a.m. to 2:00 p.m., Tuesday, June 11, 2013.

PLACE: The offices of the Morris K. Udall and Stewart L. Udall Foundation, 130 South Scott Avenue, Tucson, AZ 85701.

STATUS: This meeting of the Board of Trustees will be open to the public, unless it is necessary for the Board to consider items in executive session.

MATTERS TO BE CONSIDERED: (1) Minutes of the February 7, 2013, Special Board of Trustees Meeting; (2) Management Report; (3) Appropriations Update; (4) Lightning Presentations on Programs and Discussion; (5) A report from the Udall Center for Studies in Public Policy and the Native Nations Institute; (6) U.S. Institute for Environmental Conflict Resolution Program Report; (7) Education Programs Report; (8) Strategic Plan Update and Discussion; and (9) Executive session to discuss personnel matters and follow-up from the findings and recommendations from the U.S. Department of the Interior's Inspector General regarding the Udall Foundation audit.

PORTIONS OPEN TO THE PUBLIC: All agenda items except as noted below.

PORTIONS CLOSED TO THE PUBLIC: Executive session to discuss personnel matters and follow-up from the findings and recommendations from the U.S. Department of the Interior's Inspector General regarding the Udall Foundation audit.

CONTACT PERSON FOR MORE INFORMATION: Philip J. Lemanski, Acting Executive Director, 130 South Scott Avenue, Tucson, AZ 85701, (520) 901-8500.

Dated: May 14, 2013.
Elizabeth E. Monroe,
Executive Assistant, Morris K. Udall and Stewart L. Udall Foundation, and Federal Register Liaison Officer.

[FR Doc. 2013-11914 Filed 5-20-13; 8:45 am]

BILLING CODE 6820-FN-M